POSTAL SERVICE

39 CFR Part 111

Mailings of Lithium Batteries

AGENCY: Postal Service™.

ACTION: Final rule.

SUMMARY: The Postal Service will revise the Mailing Standards of the United States Postal Service, Domestic Mail Manual (DMM®) 601.10.20, to incorporate standards that prohibit the outbound international mailing of lithium batteries and devices containing lithium batteries. This prohibition also extends to the mailing of lithium batteries to and from an APO, FPO, or DPO location. However, this prohibition does not apply to lithium batteries authorized under DMM 601.10.20 when mailed within the United States or its territories.

DATES: Effective Date: May 16, 2012.

FOR FURTHER INFORMATION CONTACT: Joan Hall at 202-268-6010 or Margaret Falwell at 202-268-2576.

SUPPLEMENTARY INFORMATION: The Postal Service is taking this action to bring its international mailing standards into compliance with international standards for the acceptance of dangerous goods in international mail.

International standards have recently been the subject of discussion by the International Civil Aviation Organization (ICAO) and the Universal Postal Union (UPU), and the Postal Service anticipates that on January 1, 2013, customers will be able to mail specific quantities of lithium batteries internationally (including to and from an APO, FPO, or DPO location) when the batteries are properly installed in the personal electronic devices they are intended to operate.

Until such time that a less restrictive policy can be implemented consistent with international standards, and in accordance with UPU Convention, lithium batteries are not permitted in international mail. The UPU Convention and regulations are consistent with the ICAO Technical Instructions for the Safe Transport of Dangerous Goods by Air (Technical Instructions). The Technical Instructions concerning the Transport of Dangerous Goods by Post do not permit “dangerous goods” as defined by the ICAO Technical Instructions in international mail. The prohibition on mailing lithium batteries and cells internationally also applies to mail sent by commercial air transportation to and from an APO, FPO, or DPO location.

This final rule describes the prohibitions established for mailpieces containing lithium metal or lithium-ion cells or batteries and applies regardless of quantity, size, watt hours, and whether the cells or batteries are packed in equipment, with equipment, or without equipment.

We will also revise and renumber Exhibit 601.10.20.7 to reflect “watt-hour ratings” instead of “lithium content” for secondary lithium-ion batteries when describing maximum quantity limits. In addition, the Postal Service has moved the lithium battery standards as it relates to international, APO, FPO or DPO locations to the International Mail Manual (IMM®).

The Postal Service will also make parallel changes to other USPS publications that make reference to the mailing of lithium batteries such as Publication 52, Hazardous, Restricted, and Perishable Mail.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM):

Mailing Standards of the United States Postal Service, Domestic Mail Manual (DMM)

* * * * *

600 Basic Standards For All Mailing Services

601 Mailability

* * * * *

10.0 Hazardous Materials

* * * * *

10.20 Miscellaneous Hazardous Materials (Hazard Class 9)

* * * * *

10.20.5 Primary Lithium (Non-Rechargeable) Cells and Batteries

[Revise 10.20.5 as follows:]

Small consumer-type primary lithium cells or batteries (lithium metal or lithium alloy) like those used to power cameras and flashlights are mailable domestically under the following conditions. Mailing batteries internationally, or to and from an APO, FPO, or DPO destination is prohibited regardless of mail class. See IMM 136 for details.

a. General. The following restrictions apply to the mailability of all primary lithium (non-rechargeable) cells and batteries:

1. Each cell must contain no more than 1.0 gram (g) of lithium content per cell.

2. Each battery must contain no more than 2.0 g aggregate lithium content per battery.

3. Each cell or battery must meet the requirements of each test in the UN Manual of Tests and Criteria, Part III, and subsection 38.3 as referenced in DOTs hazardous materials regulation at 49 CFR 171.7.

4. All outer packages must have a complete delivery and return address.

b. Installed In Equipment. The following additional restrictions apply to the mailing of primary cells or batteries properly installed in the equipment they operate:

1. The batteries installed in the equipment must be protected from damage and short circuit.

2. The equipment must be equipped with an effective means of preventing it from being turned on or activated.

3. The equipment must be cushioned to prevent movement or damage and be contained in a strong enough sealed package to prevent crushing of the package or exposure of the contents during normal handling in the mail.

4. The mailpiece must not exceed 11 pounds.

c. Mailed With Equipment. The following additional restrictions apply to the mailing of primary cells or batteries shipped with (but not installed in) the device or equipment being mailed:

1. The shipment cannot contain more batteries than the number needed to operate the device.

2. The primary lithium cells and batteries must be packaged separately and cushioned to prevent movement or damage.

3. The shipment must be contained in a strong enough sealed package to prevent crushing of the package or exposure of the contents during normal handling in the mail.

4. The outside of the package must be marked on the address side “Package Contains Primary Lithium Batteries.”

5. The mailpiece must not exceed 11 pounds.

d. Mailed Without Equipment. The following additional restrictions apply to the mailing of primary cells or batteries without equipment:

1. The primary lithium cells and batteries must be mailed in “the originally sealed packaging.”

2. The sealed packages of batteries must be separated and cushioned to prevent short circuit, movement, or damage.

3. The shipment must be contained in a strong enough sealed package to prevent crushing of the package or exposure of the contents during normal handling in the mail.

4. They may only be sent via surface transportation.

5. The outside of the package must be marked on the address side “Surface Mail Only, Primary Lithium Batteries—Forbidden for Transportation Aboard Passenger Aircraft.”

6. The mailpiece must not exceed 5 pounds.

10.20.6 Secondary Lithium-ion (Rechargeable) Cells and Batteries

[Revise 10.20.6 as follows:]

Small consumer-type lithium-ion cells and batteries like those used to power cell phones and laptop computers are mailable domestically under the following conditions. Mailing batteries internationally, or to and from an APO, FPO, or DPO destinations is prohibited regardless of mail class. See IMM 136 for details.

a. General. The following additional restrictions apply to the mailability of all secondary (rechargeable) lithium-ion cells and batteries:

1. The lithium content must not exceed 20 Wh (Watt-hour rating) per cell.

2. The total aggregate lithium content must not exceed 100 Wh per battery.

3. Each cell or battery must meet the requirements of each test in the UN Manual of Tests and Criteria, Part III, and subsection 38.3 as referenced in DOTs hazardous materials regulation at 49 CFR 171.7.

4. The mailpiece must not contain more than 3 batteries.

5. All outer packages must have a complete delivery and return address.

b. Installed In Equipment. The following additional restrictions apply to the mailing of secondary cells or batteries properly installed in equipment they operate:

1. The batteries installed in the equipment must be protected from damage and short circuit.

2. The equipment must be equipped with an effective means of preventing it from being turned on or activated.

3. The equipment must be cushioned to prevent movement or damage and be contained in a strong enough sealed package to prevent crushing of the package or exposure of the contents during normal handling in the mail. The shipment must be mailed in a strong outer package.

c. Mailed With Equipment. The following additional restrictions apply to the mailing of secondary cells or batteries shipped with (but not installed in) the device or equipment being mailed:

1. The shipment cannot contain more batteries than the number needed to operate the device, up to three batteries.

2. The secondary lithium cells and batteries must be package separately and cushioned to prevent movement or damage.

3. The shipment must be contained in a strong enough sealed package to prevent crushing of the package or exposure of the contents during normal handling in the mail.

4. The outside of the package must be marked on the address side “Package Contains Lithium-ion Batteries (no lithium metal).”

d. Mailed Without Equipment. The following additional restrictions apply to the mailing of secondary cells or batteries without equipment:

1. The secondary lithium cells and batteries must be mailed in “the originally sealed packaging” and no more than three batteries.

2. The sealed packages of batteries must be separated and cushioned to prevent short circuit, movement, or damage.

3. The shipment must be contained in a strong enough sealed package to prevent crushing of the package or exposure of the contents during normal handling in the mail.

4. The outside of the package must be marked on the address side “Package Contains Lithium-ion Batteries (no lithium metal).”

* * * * *

10.20.7 Damaged or Recalled Batteries

* * * * *

[Delete Exhibit 10.20.7, Lithium Battery Mailability Chart, in its entirety.]

[Insert new item 10.20.8 and Exhibit 10.20.8 as follows:]

10.20.8 Lithium Battery Mailability

To determine the mailability of primary (non-rechargeable) lithium metal and lithium alloy batteries, or secondary lithium-ion batteries, see exhibit below. For detailed information refer to 10.20.5 and 10.20.6 respectively.

Exhibit 10.20.8—Lithium Battery Mailability Chart
Primary Lithium Batteries 1 2 | Surface transportation | Air transportation | Mailpiece weight limit
Small non-rechargeable consumer-type batteries
Contained in (properly installed in equipment) | Mailable | Mailable | 11 lb.
Packed with equipment but not installed in equipment | Mailable | Mailable | 11 lb.
Without the equipment they operate (individual batteries) | Mailable | Prohibited | 5 lb.
1. Each primary cell must not contain more than 1g lithium content.
2. Each primary battery must not contain more than 2g lithium content.
Secondary Lithium-ion Batteries 3 4 | Surface transportation | Air transportation | Mailpiece battery limit
Small rechargeable consumer-type batteries
Contained in (properly installed in equipment) | Mailable | Mailable | No more than 3 batteries.
Packed with equipment but not installed in equipment | Mailable | Mailable | No more than 3 batteries.
Without the equipment they operate (individual batteries) | Mailable | Mailable | No more than 3 batteries.
3. Each secondary cell must not contain more than 20 Wh (Watt-hour rating) per cell.
4. Each secondary battery must not exceed 100 Wh per battery.

* * * * *

We will publish an appropriate amendment to 39 CFR part 111 to reflect these changes.

Stanley F. Mires,
Attorney, Legal Policy & Legislative Advice.

[FR Doc. 2012-11459 Filed 5-11-12; 8:45 am]

BILLING CODE 7710-12-P